DEPARTMENT OF HEALTH AND HUMAN SERVICES

Centers for Disease Control and Prevention

Advisory Committee to the Director (ACD), Centers for Disease Control and Prevention—State, Tribal, Local and Territorial (STLT) Subcommittee

In accordance with section 10(a)(2) of the Federal Advisory Committee Act (Pub. L. 92-463), the Centers for Disease Control and Prevention (CDC) announces the following meeting of the aforementioned subcommittee:

Time and Date: 8:30 a.m.-4:00 p.m. EDT, October 21, 2015.

Place: CDC, Building 19, Rooms 254/255, 1600 Clifton Road NE., Atlanta, Georgia 30333.

Status: Open to the public, limited only by the space available. The meeting room accommodates approximately 20 people. The public is welcome to participate during the public comment, which is tentatively scheduled from 3:15 to 3:35 p.m. This meeting is also available by teleconference. Please dial (888) 233-0592 and enter code 33288611.

Web Links:

Windows Media: http://wm.onlinevideoservice.com/CDC1

Flash: http://www.onlinevideoservice.com/clients/CDC/?mount=CDC3

Smart Phones and Mobile devices: http://wowza01.sea.onlinevideoservice.com/live/CDC3/playlist.m3u8

Technical Support: 404-639-3737

Purpose: The Subcommittee will provide advice to the CDC Director through the ACD on strategies, future needs, and challenges faced by State, Tribal, Local and Territorial health agencies, and will provide guidance on opportunities for CDC.

Matters For Discussion: The STLT Subcommittee members will discuss progress on implementation of ACD-adopted recommendations related to health departments of the future, other emerging challenges, and how CDC can best support STLT health departments in the transforming health system.

The agenda is subject to change as priorities dictate.

Contact Person For More Information: Judy Monroe, M.D., Designated Federal Officer, State, Tribal, Local and Territorial Subcommittee, Advisory Committee to the Director, CDC, 1600 Clifton Road NE., M/S E-70, Atlanta, Georgia 30333 Telephone (404) 498-0300, Email: OSTLTSDirector@cdc.gov.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention (CDC).

[FR Doc. 2015-24666 Filed 9-28-15; 8:45 am]

BILLING CODE 4163-18-P